DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with July anniversary dates. In accordance with the Department's regulations, we are initiating those administrative reviews. The Department also received requests to revoke one antidumping duty order in part.

DATES: Effective Date: August 30, 2006.

FOR FURTHER INFORMATION CONTACT: Sheila E. Forbes, Office of AD/CVD Operations, Office 4, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with July anniversary dates. The Department also received timely requests to revoke in part the antidumping duty order on Individually Quick Frozen (“IQF”) Red Raspberries from Chile.

Initiation of Reviews

In accordance with 19 CFR 351.221(c)(1)(i), we are initiating administrative reviews of the following antidumping and countervailing duty orders and findings. We intend to issue the final results of these reviews not later than July 31, 2007.

| Period to be reviewed
Antidumping Duty Proceedings
Brazil: Silicon Metal, A-351-806 | 7/1/05-6/30/06
Camargo Correa Metais S.A
Companhia Ferroligas de Minas Gerais—Minasligas
Italmagnesio Nordeste S.A
Ligas de Aluminio S.A
Chile: Individually Quick Frozen Red Raspberries, A-337-806 | 7/1/05-6/30/06
Agricola Nova Ltda
Agricola San Antonio
Agrocomercial Las Tinajas Ltda
Agrofruta Chilena Ltda
Agrofruticola Pehuenche S.A
Agroindustria Framberry Ltd
Agroindustria Frisac Ltda
Agroindustria Frutos del Maipo Ltda
Agroindustria Merco Trading Ltda
Agroindustria Niquen Ltda
Agroindustria Sagrada Familia Ltda
Agroindustria San Francisco Ltda
Agroindustria y Frigorifico M y M Ltda
Agroindustrial del Maule
Agross S.A
Alimentos Naturales Vitafoods, S.A
Alimentos Prometeo Ltda
Alimentos y Frutos S.A
Andesur S.A
Angloeuro Comercio Exterior S.A
Arlavan S.A
Armijo Carrasco, Claudio del Carmen
Bajo Cero S.A
C y C Group S.A
Certified Pure Ingredients (Chile) Inc. y Cia., Ltda
Chile Andes Foods S.A
Comercializadora Agricola Berries & Fruit Ltda
Comercializadora de Alimentos del Sur Ltda
Comercio y Servicios S.A
Copefrut S.A
Exportaciones Meyer S.A
Exportadora Fragaria Ltda
Exportadora Pentagro S.A
Exportadora South Berries Ltda
Francisco Nancuvilu Punsin
Frigorifico Ditzler Ltda
Frutas de Guaico S.A
Fruticola Olmue S.A
Fruticola Viconto S.A
Hassler Monckeberg S.A
Hortifrut S.A
Interagro Comercio Y Ganado S.A
Kugar Export Ltda. (Kulenkampff & Gardeweg Ltda.)
Maria Teresa Ubilla Alarcon
Multifrigo Valparaiso S.A
Nevada Export S.A
Prima Agrotrading Ltda
Procesadora y Exportadora de Frutas y Vegetales Ltda
Rio Teno S.A
Santiago Comercio Exterior Sociedad Anomina
Sociedad Agricola Valle del Laja Ltda
Sociedad Agroindustrial Valle Frio, Ltda
Sociedad Comercial C y C, S.A
Sociedad Exportaciones Antiquina Ltda
Sociedad San Ernesto Ltda
Surfrut
Terra Natur S.A
Terrazas Export S.A
Valles Andinos S.A
Vital Berry Marketing S.A
Finland: Purified Carboxymethylcellulose, A-405-803 | 12/27/04-6/30/06
Noviant CMC Oy
Noviant Oy
CP Kelco Oy
Germany: Stainless Steel Sheet and Strip in Coils, A-428-825 | 7/1/05-6/30/06
ThyssenKrupp Nirosta GmbH
ThyssenKrupp Nirosta Prazisionsband GmbH
ThyssenKrupp VDM GmbH
India: Polyethylene Terephthalate (PET) Film, A-533-824 | 7/1/05-6/30/06
Jindal Poly Films Limited of India
MTZ Polyfilms, Ltd
Iran: Certain In-Shell Pistachios, A-507-502 | 7/1/05-6/30/06
Nima Trading Company
Italy: Certain Pasta, A-475-818 | 7/1/05-6/30/06
Atar S.r.L
Corticella Molini e Pastifici S.p.A./Pasta Combattenti S.p.A
Industria Alimentare Colavita, S.p.A
Rummo S.p.A. Molino e Pastificio
Mexico: Purified Carboxymethylcellulose, A-201-834 | 12/27/04-6/30/06
Quimica Amtex, S.A. de C.V
Mexico: Stainless Steel Sheet and Strip in Coils, A-201-822 | 7/1/05-6/30/06
ThyssenKrupp Mexinox S.A. de C.V
The Netherlands: Purified Carboxymethylcellulose, A-421-811 | 12/27/04-6/30/06
Noviant BV
CP Kelco BV
Akzo Nobel Surface Chemistry
Sweden: Purified Carboxymethylcellulose, A-401-808 | 12/27/04-6/30/06
Noviant AB
CP Kelco AB
Taiwan: Stainless Steel Butt-Weld Pipe Fittings,¹ A-583-816 | 6/1/05-5/31/06
Liang Feng Stainless Steel Fitting Co., Ltd
Tru-Flow Industrial Co., Ltd
Censor International Corporation
PFP Taiwan Co., Ltd
Taiwan: Stainless Steel Sheet and Strip in Coils, A-583-831 | 7/1/05-6/30/06
Ta Chen Stainless Pipe Co., Ltd
Yieh United Steel Corporation
Chia Far Industrial Factory Co., Ltd
China Steel Corporation
Emerdex Stainless Flat-Rolled Products, Inc
Emerdex Stainless Steel, Inc
Emerdex Group
Tang Eng Iron Works
PFP Taiwan Co., Ltd
Yieh Loong Enterprise Co., Ltd.(aka Chung Hung Steel Co., Ltd.)
Yieh Trading Corp
Goang Jau Shing Enterprise Co., Ltd
Yieh Mau Corp
Chien Shing Stainless Co
Chain Chon Industrial Co., Ltd
Thailand: Canned Pineapple, A-549-813 | 7/1/05-6/30/06
Vita Food Factory (1989) Co., Ltd
Thailand: Furfuryl Alcohol, A-549-812 | 7/1/05-6/30/06
Indorama Chemicals Thailand Ltd
The People's Republic of China: Persulfates,² A-570-847 | 7/1/05-6/30/06
Shanghai AJ Import and Export Corporation
The People's Republic of China: Saccharin,³ A-570-878 | 7/1/05-6/30/06
Amgal Chemical Products (1989) Ltd
Shanghai Fortune Chemical Co., Ltd
Suzhou Fine Chemical Co. Group Ltd
Countervailing Duty Proceedings
India: Polyethylene Terephthalate (PET) Film, C-533-825 | 1/1/05-12/31/05
MTZ Polyfilms, Ltd
Jindal Poly Films Limited of India
Garware Polyester Limited
Italy: Certain Pasta, C-475-819 | 1/1/05-12/31/05
Atar S.r.L
DeMatteis Agroalimentare S.p.A
Pastificio Antonio Pallante S.r.L
¹ The companies listed for the above referenced case were inadverently omitted from the initiation notice that published on July 27, 2006 (71 FR 42626).
² If one of the above named companies does not qualify for a separate rate, all other exporters of Persulfates from the People's Republic of China who have not qualified for a separate rate are deemed to be covered by this review as part of the single PRC entity of which the named exporters are a part.
³ If one of the above named companies does not qualify for a separate rate, all other exporters of Saccharin from the People's Republic of China who have not qualified for a separate rate are deemed to be covered by this review as part of the single PRC entity of which the named exporters are a part.

Suspension Agreements

None.

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: August 25, 2006.
Thomas F. Futtner,
Acting Office Director, AD/CVD Operations, Office 4, Import Adminstration.

[FR Doc. E6-14475 Filed 8-29-06; 8:45 am]

BILLING CODE 3510-DS-P